DEPARTMENT OF THE INTERIOR

Fish and Wildlife Service

[FWS-R8-ES-2018-N025; FXES11140800000-189-FF08EVEN00]

Receipt of Application Incidental Take Permit; Draft Low-Effect Habitat Conservation Plan for the Morro Shoulderband Snail; Phillips Single-Family Residence, Community of Los Osos, San Luis Obispo County, California

AGENCY: Fish and Wildlife Service, Interior.

ACTION: Notice of availability; request for comments.

SUMMARY: We, the U.S. Fish and Wildlife Service (Service), have received an application from Richard Phillips for an incidental take permit under the Endangered Species Act of 1973, as amended. The permit would authorize take of the federally endangered Morro shoulderband snail that would occur incidental to otherwise lawful activities associated with the construction and maintenance of a single-family residence and associated uses addressed in the draft low-effect habitat conservation plan prepared for the project. We invite public comment.

DATES: Written comments should be received on or before September 17, 2018.

ADDRESSES: To obtain documents: You may download a copy of the draft habitat conservation plan and draft low-effect screening form and environmental action statement at http://www.fws.gov/ventura/, or you may request copies of the documents by sending U.S. mail to our Ventura office, or by phone (see FOR FURTHER INFORMATION CONTACT).

To submit written comments: Please send us your written comments using one of the following methods:

• U.S. mail: Send your comments to: Stephen P. Henry, Field Supervisor, Ventura Fish and Wildlife Office, U.S. Fish and Wildlife Service, 2493 Portola Road, Suite B, Ventura, CA 93003.

• Facsimile: Fax your comments to 805-644-3958.

FOR FURTHER INFORMATION CONTACT: Julie M. Vanderwier, Fish and Wildlife Biologist, 805-677-3400 (phone), or at the Ventura address in ADDRESSES.

SUPPLEMENTARY INFORMATION: We have received an application for an incidental take permit (ITP) pursuant to section 10(a)(1)(B) of the Endangered Species Act (ESA; 16 U.S.C. 1531 et seq.). The application addresses take of the federally endangered Morro shoulderband snail (Helminthoglypta walkeriana) that would occur incidental to the construction and maintenance of a single-family residence and associated uses. The requested permit term is 10 years and the permit would be subject to renewal. Issuance of an ITP pursuant to this habitat conservation plan (HCP) has been determined to be eligible for a categorical exclusion under the National Environmental Policy Act (NEPA; 42 U.S.C. 4321 et seq.). We invite comments from the public on the draft HCP, draft low-effect screening form, and environmental action statement.

Background

The Morro shoulderband snail was listed as endangered on December 15, 1994 (59 FR 64613). Section 9 of the ESA and its implementing regulations prohibit the take of fish or wildlife species listed as endangered or threatened. Under the ESA, “take” is defined to include the following activities: “to harass, harm, pursue, hunt, shoot, wound, kill, trap, capture, or collect, or to attempt to engage in any such conduct” (16 U.S.C. 1532). Under section 10(a)(1)(B) of the ESA, we may issue permits to authorize take of listed species if it is incidental to other lawful activities and not the purpose of carrying out that activity. The Code of Federal Regulations provides regulations governing incidental take permits for endangered and threatened species at 50 CFR 17.22 and 17.32, respectively. Issuance of an ITP must not jeopardize the existence of any federally listed fish, wildlife or plant species. Under the ESA, protections for federally listed plants differ from the protections afforded to federally listed animals. The permittee would receive assurances under our “No Surprises” regulations (50 CFR 17.22(b)(5) and 17.32(b)(5)) for species included in the ITP.

Applicant's Proposed Activities

The proposed project involves the construction and maintenance of a single-family residence and associated uses on an existing, legal, one acre parcel in the unincorporated community of Los Osos, County of San Luis Obispo, California. The take would occur in association with site preparation activities necessary for construction. The HCP includes minimization measures for the covered species and compensation for unavoidable take of the species through payment of a fee to an Impact-Directed Environmental Account held by the National Fish and Wildlife Foundation. Collected fees from this account will fund recovery actions for Morro shoulderband snail identified in the 1998 recovery plan for this species and four plant species from western San Luis Obispo County. The HCP supports an application to the Service seeking issuance of an ITP that would authorize take of the Morro shoulderband snail. The County of San Luis Obispo requires demonstration that property owners are in compliance with the ESA regarding Morro shoulderband snail as part of their issuance of County permits that would allow land development in Los Osos.

Our Preliminary Determination

The Service has made a preliminary determination that issuance of the ITP is neither a major Federal action that will significantly affect the quality of the human environment within the meaning of section 102(2)(C) of NEPA (42 U.S.C. 4321 et seq.,) nor that it will, individually or cumulatively, have more than a negligible effect on Morro shoulderband snail, the only species covered in the HCP. Therefore, the permit qualifies for a categorical exclusion under NEPA.

Public Comments

If you wish to comment on the draft HCP and associated documents, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Dated: August 10, 2018.
Stephen P. Henry,
Field Supervisor, Ventura Fish and Wildlife Office, Ventura, California.

[FR Doc. 2018-17663 Filed 8-15-18; 8:45 am]

BILLING CODE 4333-15-P